DEPARTMENT OF JUSTICE

Notice Lodging of Proposed Consent Decree Under the Oil Pollution Act

On March 21, 2016, the Department of Justice lodged a proposed Consent Decree with the United States District Court for the District of Puerto Rico in the lawsuit entitled United States et al. v. GMR Progress LLC et al., Civil Action No. 3:16-cv-01507.

The Consent Decree resolves the United States' and the Commonwealth of Puerto Rico's claims set forth in the complaint against Defendants GMR Progress LLC and General Maritime Management (Portugal) Lda for natural resource damages caused by an oil spill from the vessel Genmar Progress on August 29, 2007. Under the Consent Decree, the Defendants will pay a total of $2,750,000, including $83,090 in assessment costs and $2,666,910 to restore the injury to natural resources resulting from the Spill.

The publication of this notice opens a period for public comment on the Consent Decree. Comments should be addressed to the Assistant Attorney General, Environment and Natural Resources Division and should refer to United States et al. v. GMR Progress et al., D.J. Ref. No. 90-5-1-1-11218. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the Consent Decree may be examined and downloaded at this Justice Department Web site: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $13.75 (25 cents per page reproduction cost) payable to the United States Treasury. For a paper copy without the exhibits and signature pages, the cost is $5.25.

Robert E. Maher,
Assistant Section Chief, Environmental Enforcement Section, Environment and Natural Resources Division.

[FR Doc. 2016-06789 Filed 3-24-16; 8:45 am]

BILLING CODE 4410-15-P